DEPARTMENT OF COMMERCE

International Trade Administration

[-580-836]

Certain Cut-to-Length Carbon-Quality Steel Plate from the Republic of Korea: Correction to the Preliminary Results of Antidumping Duty Administrative Review and Intent to Rescind Administrative Review in Part

AGENCY: Import Administration, International Trade Administration, Department of Commerce

SUMMARY: On September 24, 2009, the Department of Commerce published in the Federal Register the preliminary results of the administrative review of the antidumping duty order on certain cut-to-length carbon-quality steel plate from the Republic of Korea for the period of review February 1, 2008, through January 31, 2009. The notice contained two incorrect citations to memoranda. The correct citations are indicated below.

EFFECTIVE DATE: October 8, 2009.

FOR FURTHER INFORMATION CONTACT: Yang Jin Chun or Richard Rimlinger, AD/CVD Operations, Office 5, Import Administration, International Trade Administration, U.S. Department of Commerce, 14th Street and Constitution Avenue, NW, Washington, DC 20230; telephone: (202) 482-5760 and (202) 482-4477, respectively.

SUPPLEMENTARY INFORMATION:

Background

On September 24, 2009, the Department of Commerce published in the Federal Register the preliminary results of the administrative review of the antidumping duty order on certain cut-to-length carbon-quality steel plate from the Republic of Korea for the period of review February 1, 2008, through January 31, 2009. See Certain Cut-to-Length Carbon-Quality Steel Plate From the Republic of Korea: Preliminary Results of Antidumping Duty Administrative Review and Intent to Rescind Administrative Review in Part, 74 FR 48716 (September 24, 2009) (Preliminary Results). The Preliminary Results contained two incorrect citations to memoranda. First, in the “Corroboration of Information” section of the Preliminary Results, we stated:

See the September XX, 2009, memorandum to the File entitled “Certain Cut-to-Length Carbon-Quality Steel Plate from the Republic of Korea: Placement on Record” for details which contain DSM's business-proprietary information.

See Preliminary Results, 74 FR at 48718. This statement should read as follows:

See the September 18, 2009, memorandum to the File entitled “Certain Cut-to-Length Carbon-Quality Steel Plate from the Republic of Korea: Placement on Record” for details which contain DSM's business-proprietary information.

Second, in Footnote 1 of the Preliminary Results, we stated:

See the September XX, 2009, memorandum to the File entitled “Certain Cut-to-Length Carbon-Quality Steel Plate from the Republic of Korea: All-Others Cash-Deposit Rate” for details on the calculation of this rate.

See Preliminary Results, 74 FR at 48719. Footnote 1 should read as follows:

See the September 18, 2009, memorandum to the File entitled “Certain Cut-to-Length Carbon-Quality Steel Plate from the Republic of Korea: All-Others Cash-Deposit Rate” for details on the calculation of this rate.

We are issuing and publishing this notice in accordance with sections 751(a)(1) and 777(i)(1) of the Tariff Act of 1930, as amended, and 19 CFR 351.221(b)(4).

Dated: October 2, 2009.
Ronald K. Lorentzen,
Acting Assistant Secretary for Import Administration.

[FR Doc. E9-24335 Filed 10-7-09; 8:45 am]

BILLING CODE 3510-DS-S